DEPARTMENT OF HEALTH AND HUMAN SERVICES

Administration for Children and Families

[Program Announcement No. ACYF-PA-CC-2000-01A]

Fiscal Year 2000 Discretionary Announcement of the Availability of Funds and Request for Applications for Field Initiated Child Care Research Projects, Child Care Policy Research Partnerships, Child Care Research Scholars, and the Child Care Research Fellowship Program, Correction

AGENCY: Administration for Children, Youth, and Families, ACF, DHHS.

ACTION: Correction.

SUMMARY: This document contains a correction to the Notice that was published in the Federal Register on Thursday, January 27, 2000, Part III (65 FR 4495). On page 4500, first column, the mailing address for submission of applications is incorrect. The correct address for applicants who intend to apply, and for the submission and delivery of applications, should be changed to the following: ACYF Operations Center, Laurel Consulting Group, 1815 North Fort Myer Drive, Suite 300, Arlington, Virginia 22209.

FOR FURTHER INFORMATION CONTACT: The ACYF Operation Center at 1-800-351-2293 or send an email to ccb@lcg.com. You can also contact Dr. Patricia L. Divine, Program Specialist, Child Care Bureau, by email at pdivine@acf.dhhs.gov or by phone at (202) 690-6705.

Dated: March 7, 2000.
Patricia Montoya,
Commissioner, Administration on Children, Youth and Families.

[FR Doc. 00-6108 Filed 3-14-00; 8:45 am]

BILLING CODE 4184-01-M